DEPARTMENT OF COMMERCE

International Trade Administration

[A-533-824]

Polyethylene Terephthalate Film, Sheet, and Strip From India: Notice of Correction of Final Results of Antidumping Duty Administrative Review; 2016-2017

AGENCY: Enforcement and Compliance, International Trade Administration, U.S. Department of Commerce.

SUMMARY: The Department of Commerce (Commerce) is correcting the final results of the administrative review of the antidumping duty order on polyethylene terephthalate film, sheet, and strip (PET film) from India. The period of review (POR) is July 1, 2016, through June 30, 2017.

DATES: Applicable May 6, 2019.

FOR FURTHER INFORMATION CONTACT: Jacqueline Arrowsmith at (202) 482-5255, AD/CVD Operations, Office VII, Enforcement and Compliance, International Trade Administration, U.S. Department of Commerce, 1401 Constitution Avenue NW, Washington, DC 20230.

SUPPLEMENTARY INFORMATION:

Background

On March 13, 2019, Commerce published in the Federal Register the Final Results of the 2016-2017 administrative review on the antidumping duty order on PET film from India.¹ Commerce is correcting the Final Results to address the inadvertent omission of the non-selected respondent companies from the rate table.

¹ See Polyethylene Terephthalate Film, Sheet, and Strip from India: Final Results of Antidumping Duty Administrative Review; 2016-2017, 84 FR 9092 (March 13, 2019) (Final Results).

Scope of the Order

The merchandise subject to the order is PET film. The PET film subject to the order is currently classifiable under subheading 3920.62.00.90 of the Harmonized Tariff Schedule of the United States.²

² A full description of the scope of the order is contained in the Final Issues and Decision Memorandum. See “Issues and Decision Memorandum for the Final Results: Polyethylene Terephthalate Film, Sheet, and Strip from India; 2016-2017 Administrative Review” (which was adopted March 5, 2019); see also Final Results.

Correction to Final Results

Commerce inadvertently did not include the names of five non-selected respondent companies in the table listing the weighted-average dumping margins in the Final Results. Therefore, Commerce is correcting the Final Results to include the names of these companies. As Jindal Poly Films Limited of India (Jindal)'s rate was the only calculated rate for these Final Results, the rate for the non-selected respondent companies is derived from Jindal's final weighted-average dumping duty margin of 5.95 percent.³

³ See Final Results.

As a result of this review, we determine the following weighted-average dumping margins for the five non—selected respondent companies for the period July 1, 2016, through June 30, 2017:

Manufacturer/Exporter | Weighted- average margin (percent)
Garware Polyester Ltd | 5.95
Chiripal Poly Films Limited | 5.95
Polyplex Corporation Ltd | 5.95
Ester Industries Limited | 5.95
Vacmet India Limited | 5.95

Antidumping Duty Assessment

As noted in the Final Results, upon completion of this administrative review, Commerce shall determine and U.S. Customs and Border Protection (CBP) shall assess antidumping duties on all appropriate entries. If a respondent's weighted-average dumping margin is not zero or de minimis (i.e., less than 0.5 percent) in the final results of this review, we will calculate importer-specific ad valorem assessment rates on the basis of the ratio of the total amount of dumping calculated for an importer's examined sales and the total entered value of such sales in accordance with 19 CFR 351.212(b)(1). Where either the respondent's weighted-average dumping margin is zero or de minimis within the meaning of 19 CFR 351.106(c), or an importer-specific rate is zero or de minimis, we will instruct CBP to liquidate the appropriate entries without regard to antidumping duties.

We already issued instructions to CBP for Jindal and SRF Limited/SRF Limited of India, 15 days after publication of the final results of this review. For the five non-selected respondent companies: Garware Polyester Ltd., Chiripal Poly Films Limited, Polyplex Corporation Ltd., Ester Industries Limited, Vacmet India Limited, we intend to issue instructions to CBP 15 days after the publication of this corrected final results of review.

Cash Deposit Requirements

The following cash deposit requirements will be effective retroactively for all shipments of subject merchandise entered, or withdrawn from warehouse, for consumption on or after March 13, 2019, the date of publication of the Final Results of this administrative review, as provided for by section 751(a)(2)(C) of the Act: (1) The cash deposit rate for Garware Polyester Ltd., Chiripal Polyfilms Limited, Polyplex Corporation Ltd., Ester Industries Limited, Vacmet India Limited will be equal to the rates established in this notice of correction of final results of review; (2) for previously reviewed or investigated companies, including those for which Commerce may have determined they had no shipments during the POR, the cash deposit rate will continue to be the company-specific rate published for the most recently completed segment of this proceeding; (3) if the exporter is not a firm covered in this review or another completed segment of this proceeding, but the manufacturer is, then the cash deposit rate will be the rate established for the most recently completed segment of this proceeding for the manufacturer of the merchandise; and (4) if neither the exporter nor the manufacturer is a firm covered in this or any previously completed segment of this proceeding, then the cash deposit rate will be the “all-others” rate of 5.71 percent established in the less-than-fair-value investigation.⁴ These deposit requirements, when imposed, shall remain in effect until further notice.

⁴ See Notice of Amended Final Antidumping Duty Determination of Sales at Less Than Fair Value and Antidumping Duty Order: Polyethylene Terephthalate Film, Sheet, and Strip from India, 67 FR 44175 (July 1, 2002) (Amended Final Determination).

Notification to Importers

This notice also serves as a final reminder to importers of their responsibility under 19 CFR 351.402(f)(2) to file a certificate regarding the reimbursement of antidumping duties prior to liquidation of the relevant entries during this POR. Failure to comply with this requirement could result in the Secretary's presumption that reimbursement of antidumping and/or countervailing duties occurred and the subsequent assessment of doubled antidumping duties.

Administrative Protective Order

This notice also serves as a reminder to parties' subject to administrative protective orders (APO) of their responsibility concerning the return or destruction of proprietary information disclosed under APO in accordance with 19 CFR 351.305(a)(3), which continues to govern business proprietary information in this segment of the proceeding. Timely written notification of the return/destruction of APO materials, or conversion to judicial protective order, is hereby requested. Failure to comply with the regulations and the terms of an APO is a sanctionable violation.

This correction to the Final Results is published in accordance with section 735(d), 736(a), and 777(i)of the Act, as amended.

Dated: April 30, 2019.
Christian Marsh,
Deputy Assistant Secretary for Enforcement and Compliance.

[FR Doc. 2019-09215 Filed 5-3-19; 8:45 am]

BILLING CODE 3510-DS-P